DEPARTMENT OF VETERANS AFFAIRS

Advisory Committee on Women Veterans; Notice of Meeting

The Department of Veterans Affairs (VA) gives notice under Public Law 92-463 (Federal Advisory Committee Act) that the Advisory Committee on Women Veterans will meet October 19-21, 2004, from 8:15 a.m. to 3:30 p.m. in room C-7-C, VA Central Office, 810 Vermont Avenue, NW., Washington, DC 20420. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On October 19, the agenda will include briefings and updates on issues related to women veterans' issues in the Veterans Health Administration (VHA), including any treatment issues related to Operation Iraqi Freedom and Operation Enduring Freedom combat veterans and briefings from VHA's Women Veterans Health Program Deputy Field Directors on issues in the Veterans Benefits Administration, including outreach efforts and the role of the Women Veterans Coordinator in VA Regional Offices; presentation of Certificates of Appointment to four new Committee members; and discussion of the 2004 Report of the Advisory Committee on Women Veterans. On October 20, the Committee will be briefed on legislative issues affecting women veterans, VA research on women's health issues, upcoming initiatives of the Center for Women Veterans, and general ethics information related to Committee membership. On October 21, the Committee will be briefed by a representative from the Department of Labor Veterans' Employment and Training Service (VETS) on employment opportunities for women veterans, next steps and implementation of the National Capital Asset Realignment of Enhanced Services (CARES) recommendations, and will discuss any new issues that the Committee members may introduce.

Any member of the public wishing to attend should contact Ms. Rebecca Schiller, at the Department of Veterans Affairs, Center for Women Veterans (00W), 810 Vermont Avenue, NW., Washington, DC 20420. Ms. Schiller may be contacted either by phone at (202) 273-6193, fax at (202) 273-7092, or e-mail at 00W@mail.va.gov. Interested persons may attend, appear before, or file statements with the Committee. Written statements must be filed before the meeting, or within 10 days after the meeting.

Dated: September 29, 2004,
By Direction of the Secretary.
E. Philip Reggin,
Committee Management Officer.

[FR Doc. 04-22438 Filed 10-5-04; 8:45 am]

BILLING CODE 8320-01-M